DEPARTMENT OF ENERGY

Federal Energy Regulatory Commission

Combined Notice of Filings #1

Take notice that the Commission received the following electric corporate filings:

Docket Numbers: EC14-10-000.

Applicants: AmerenEnergy Medina Valley Cogen, L.L.C., Rockland Capital.

Description: Joint Application of AmerenEnergy Medina Valley Cogen, L.L.C., et. al. for Authorization under Section 203 of the FPA and Request for Expedited Consideration.

Filed Date: 10/21/13.

Accession Number: 20131021-5164.

Comments Due: 5 p.m. ET 11/12/13.

Docket Numbers: EC14-11-000.

Applicants: Fibrominn LLC.

Description: Application for Disposition of Jurisdictional Facilities and Request for Confidential Treatment, Expedited Consideration and Waivers of Fibrominn LLC.

Filed Date: 10/21/13.

Accession Number: 20131021-5167.

Comments Due: 5 p.m. ET 11/12/13.

Take notice that the Commission received the following exempt wholesale generator filings:

Docket Numbers: EG14-9-000.

Applicants: Gibson City Energy Center, LLC.

Description: Notice of Self-Certification as an Exempt Wholesale Generator of Gibson City Energy Center, LLC.

Filed Date: 10/21/13.

Accession Number: 20131021-5152.

Comments Due: 5 p.m. ET 11/12/13.

Take notice that the Commission received the following electric rate filings:

Docket Numbers: ER11-3987-004.

Applicants: Mesquite Solar 1, LLC.

Description: Notice of Non-Material Change in Status of Mesquite Solar 1, LLC.

Filed Date: 10/21/13.

Accession Number: 20131021-5169.

Comments Due: 5 p.m. ET 11/12/13.

Docket Numbers: ER12-2263-002.

Applicants: Arizona Public Service Company.

Description: Rate Schedule No. 217, Exhibit B Corrections to be effective 10/1/2012.

Filed Date: 10/21/13.

Accession Number: 20131021-5138.

Comments Due: 5 p.m. ET 11/12/13.

Docket Numbers: ER12-2570-002; ER10-3041-002.

Applicants: Panther Creek Power Operating, LLC, Westwood Generation, LLC.

Description: Notice of Non-Material Change in Status of Panther Creek Operating, LLC, et al.

Filed Date: 10/21/13.

Accession Number: 20131021-5160.

Comments Due: 5 p.m. ET 11/12/13.

Docket Numbers: ER14-107-001.

Applicants: Midcontinent Independent System Operator, Inc.

Description: 10-21-13 Scheds 7-8-9 Entergy to be effective 12/19/2013.

Filed Date: 10/21/13.

Accession Number: 20131021-5113.

Comments Due: 5 p.m. ET 11/12/13.

Docket Numbers: ER14-144-000.

Applicants: New York Independent System Operator, Inc.

Description: NYISO revisions re: minimum participation criteria for the NYISO markets to be effective 12/19/2013.

Filed Date: 10/21/13.

Accession Number: 20131021-5109.

Comments Due: 5 p.m. ET 11/12/13.

Docket Numbers: ER14-145-000.

Applicants: Idaho Power Company.

Description: OATT Order No. 764 Compliance Filing to be effective 11/12/2013.

Filed Date: 10/21/13.

Accession Number: 20131021-5111.

Comments Due: 5 p.m. ET 11/12/13.

Docket Numbers: ER14-146-000.

Applicants: Nevada Power Company.

Description: Rate Schedule No. 139 Interim Joint Dispatch Agreement to be effective 1/1/2014.

Filed Date: 10/21/13.

Accession Number: 20131021-5116.

Comments Due: 5 p.m. ET 11/12/13.

Docket Numbers: ER14-147-000.

Applicants: Sierra Pacific Power Company.

Description: Rate Schedule No. 63—Concurrence in NPC RS No. 139 Interim Joint Dispatch Agmt to be effective 1/1/2014.

Filed Date: 10/21/13.

Accession Number: 20131021-5117.

Comments Due: 5 p.m. ET 11/12/13.

Docket Numbers: ER14-148-000.

Applicants: Midcontinent Independent System Operator, Inc.

Description: 10-21-2013 Entergy NITSAs PTPs Succession to be effective 12/19/2013.

Filed Date: 10/21/13.

Accession Number: 20131021-5140.

Comments Due: 5 p.m. ET 11/12/13.

Docket Numbers: ER14-149-000.

Applicants: NV Energy, Inc.

Description: NV Energy OATT to be effective 1/1/2014.

Filed Date: 10/21/13.

Accession Number: 20131022-5000.

Comments Due: 5 p.m. ET 11/12/13.

Docket Numbers: ER14-150-000.

Applicants: Arizona Public Service Company.

Description: Rate Schedule No. 217—Bouse Switchyard—Exhibit B.BSE, Revision No. 4 to be effective 12/16/2013.

Filed Date: 10/21/13.

Accession Number: 20131022-5001.

Comments Due: 5 p.m. ET 11/12/13.

Docket Numbers: ER14-151-000.

Applicants: PJM Interconnection, L.L.C.

Description: 3rd Quarter 2013 Updates to PJM Operating Agreement and RAA Membership Lists to be effective 9/30/2013.

Filed Date: 10/22/13.

Accession Number: 20131022-5020.

Comments Due: 5 p.m. ET 11/12/13.

Docket Numbers: ER14-152-000.

Applicants: Elgin Energy Center, LLC.

Description: Market-Based Rate Application to be effective 12/23/2013.

Filed Date: 10/22/13.

Accession Number: 20131022-5041.

Comments Due: 5 p.m. ET 11/12/13.

Docket Numbers: ER14-153-000.

Applicants: Gibson City Energy Center, LLC.

Description: Market-Based Rate Application to be effective 12/23/2013.

Filed Date: 10/22/13.

Accession Number: 20131022-5042.

Comments Due: 5 p.m. ET 11/12/13.

Docket Numbers: ER14-154-000.

Applicants: Grand Tower Energy Center, LLC.

Description: Market-Based Rate Application to be effective 12/23/2013.

Filed Date: 10/22/13.

Accession Number: 20131022-5044.

Comments Due: 5 p.m. ET 11/12/13.

Docket Numbers: ER14-155-000.

Applicants: PacifiCorp.

Description: Moon Lake Revised Wheeling Agreement Rev 4 to be effective 12/21/2013.

Filed Date: 10/22/13.

Accession Number: 20131022-5061.

Comments Due: 5 p.m. ET 11/12/13.

Take notice that the Commission received the following electric securities filings:

Docket Numbers: ES14-5-000.

Applicants: PacifiCorp.

Description: Application for Authorization to Issue and Sell up to $1.5 Billion of Promissory Notes or Other Evidences of Unsecured Short-Term Indebtedness of PacifiCorp.

Filed Date: 10/22/13.

Accession Number: 20131022-5081.

Comments Due: 5 p.m. ET 11/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2013.
Nathaniel J. Davis, Sr.,
Deputy Secretary.

[FR Doc. 2013-25529 Filed 10-28-13; 8:45 am]

BILLING CODE 6717-01-P